DEPARTMENT OF THE TREASURY

United States Mint

Notification of Call for Artists To Apply for the United States Mint's Artistic Infusion Program

SUMMARY: The United States Mint is inviting artists to participate in its new Artistic Infusion Program to help design United States coins and medals. The Artistic Infusion Program has been created to enrich and invigorate the design of United States coins and medals by developing a pool of up to 20 professional artists (Master Designers) and up to 20 college and graduate-level art students (Associate Designers) in sculpture, engraving, drawing, graphic design, painting, printmaking and other visual arts, who will be invited to create and submit new designs for selected coin and medal programs throughout the year.

The United States Mint encourages applications from talented artists, representing diverse backgrounds and a variety of interests reflecting those of the American people, who will look at coin design in new ways. Artists selected to participate in the program will be paid honoraria for their work, and those whose designs are used for certain coins and medals will be named as the designer in historical documents, including certificates of authenticity and promotional materials. Most importantly, the program provides the Nation's most gifted artists with the opportunity to contribute beautiful designs to coins that will be enjoyed by all Americans.

The National Endowment for the Arts has partnered with the United States Mint to evaluate artists' applications. Submissions will be evaluated on artistic excellence and merit.

An orientation session and designer symposium will be held for artists selected to participate in the program (attending at the Mint's expense) on Thursday and Friday, February 19 and 20, 2004, at the United States Mint in Philadelphia to learn about the history of United States coin and medal design, the coin making process and upcoming design opportunities.

Please Note: At this time, the Artistic Infusion Program is limited to coin and medal design (i.e., drawings) and does not encompass the execution (sculpting and engraving) of designs. The United States Mint Sculptor/Engravers will model designs created by the Artistic Infusion artists.

Application Deadline: January 9, 2004.

Receipt of Applications: Artists who are U.S. citizens should submit a completed application that will include samples of their work. A design exercise for applicants will also be required. Interested artists are required to use the “Call for Artists Application Packet,” which includes program details, eligibility requirements, artistic criteria and detailed application guidelines. The packet is available on the United States Mint's website at www.usmint.gov, or by contacting the United States Mint at (202) 354-7727 or art@usmint.treas.gov.

Dated: December 8, 2003.
Henrietta Holsman Fore,
Director, United States Mint.

[FR Doc. 03-30924 Filed 12-15-03; 8:45 am]

BILLING CODE 4810-37-P